DEPARTMENT OF THE TREASURY

Office of Foreign Assets Control

Sanctions Actions Pursuant to Executive Orders 13469 and 13224

AGENCY: Office of Foreign Assets Control, Treasury.

ACTION: Notice.

SUMMARY: The Treasury Department's Office of Foreign Assets Control (OFAC) is publishing updated identifying information for one individual whose property and interests in property are blocked pursuant to Executive Order (E.O.) 13469, “Blocking Property of Additional Persons Undermining Democratic Processes or Institutions in Zimbabwe,” and one entity whose property and interests in property are blocked pursuant to E.O. 13224, “Blocking Property and Prohibiting Transactions With Persons Who Commit, Threaten to Commit, or Support Terrorism,” both of which have previously been designated and added to OFAC's Specially Designated Nationals and Blocked Persons (SDN) List.

DATES: OFAC's actions described in this notice were effective on March 22, 2016, as further specified below.

FOR FURTHER INFORMATION CONTACT: The Department of the Treasury's Office of Foreign Assets Control: Assistant Director for Licensing, tel.: 202/622-2480, Assistant Director for Regulatory Affairs, tel.: 202-622-4855, Assistant Director for Sanctions Compliance & Evaluation, tel.: 202-622-2490, or the Department of the Treasury's Office of the Chief Counsel (Foreign Assets Control), Office of the General Counsel, tel.: 202-622-2410.

SUPPLEMENTARY INFORMATION:

Electronic and Facsimile Availability

The SDN List and additional information concerning OFAC sanctions programs are available on OFAC's Web site (www.treasury.gov/ofac). Certain general information pertaining to OFAC's sanctions programs is also available via facsimile through a 24-hour fax-on-demand service, tel.: 202-622-0077.

Notice of OFAC Actions

On March 22, 2016, OFAC updated the identifying information for one previously designated individual whose property and interests in property are blocked pursuant to E.O. 13469 and one previously designated entity whose property and interests in property are blocked pursuant to E.O. 13224. The updated identifying information for the individual and entity is as follows:

Individual:

AL-SHANFARI, Thamer Bin Said Ahmed (a.k.a. AL SHANFARI, SHEIKH THAMER; a.k.a. AL SHANFARI, Thamer; a.k.a. AL SHANFARI, Thamer Said Ahmed; a.k.a. AL-SHANFARI, Thamer Bin Saeed; a.k.a. AL-SHANFARI, Thamer Said Ahmed; a.k.a. SHANFARI, Thamer), P.O. Box 18, Ruwi 112, Oman; DOB 03 Jan 1968; nationality Oman; citizen Oman; Passport 00000999 (Oman); alt. Passport 3253 (Oman); Chairman & Managing Director, Oryx Group and Oryx Natural Resources (individual) [ZIMBABWE].

-to-

AL-SHANFARI, Thamer Bin Said Ahmed (a.k.a. AL SHANFARI, SHEIKH THAMER; a.k.a. AL SHANFARI, Thamer; a.k.a. AL SHANFARI, Thamer Said Ahmed; a.k.a. AL-SHANFARI, Thamer Bin Saeed; a.k.a. AL-SHANFARI, Thamer Said Ahmed; a.k.a. SHANFARI, Thamer), P.O. Box 18, Ruwi 112, Oman; DOB 03 Jan 1968; alt. nationality Oman; alt. citizen Oman; Passport 00000999 (Oman); alt. Passport 3253 (Oman) (individual) [ZIMBABWE].

Entity:

REVIVAL OF ISLAMIC HERITAGE SOCIETY (a.k.a. AFGHAN SUPPORT COMMITTEE; a.k.a. AHIYAHU TURUS; a.k.a. AHYA UL TURAS; a.k.a. AHYA UTRAS; a.k.a. AL-FORQAN AL-KHAIRYA; a.k.a. AL-FURQAN AL-KHARIYA; a.k.a. AL-FURQAN CHARITABLE FOUNDATION; a.k.a. AL-FURQAN FOUNDATION WELFARE TRUST; a.k.a. AL-FURQAN KHARIA; a.k.a. AL-FURQAN UL KHAIRA; a.k.a. AL-FURQAN WELFARE FOUNDATION; a.k.a. AL-TURAZ ORGANIZATION; a.k.a. AL-TURAZ TRUST; a.k.a. FORKHAN RELIEF ORGANIZATION; a.k.a. HAYAT UR RAS AL-FURQAN; a.k.a. HAYATURAS; a.k.a. HAYATUTRAS; a.k.a. HIYAT ORAZ AL ISLAMIYA; a.k.a. JAMIA IHYA UL TURATH; a.k.a. JAMIAT AL-HAYA AL-SARAT; a.k.a. JAMIAT AYAT-UR-RHAS AL ISLAMIA; a.k.a. JAMIAT IHIA AL-TURATH AL-ISLAMIYA; a.k.a. JAMIAT IHYA UL TURATH AL ISLAMIA; a.k.a. JAMITO AHIA TORAS AL-ISLAMI; a.k.a. LAJNAT UL MASA EIDATUL AFGHANIA; a.k.a. LAJNATUL FURQAN; a.k.a. ORGANIZATION FOR PEACE AND DEVELOPMENT PAKISTAN; a.k.a. RAIES KHILQATUL QURANIA FOUNDATION OF PAKISTAN; a.k.a. REVIVAL OF ISLAMIC SOCIETY HERITAGE ON THE AFRICAN CONTINENT; a.k.a. “AL MOSUSTA FURQAN”; a.k.a. “AL-FORKAN”; a.k.a. “AL-FURKAN”; a.k.a. “AL-MOSASATUL FURQAN”; a.k.a. “ASC”; a.k.a. “HITRAS”; a.k.a. “JAMIAT AL-FURQAN”; a.k.a. “MOASSESA AL-FURQAN”; a.k.a. “MOSASA-TUL-FORQAN”; a.k.a. “RIHS”; a.k.a. “SOCIAL DEVELOPMENT FOUNDATION”), House Number 56, E. Canal Road, University Town, Peshawar, Pakistan; Afghanistan; Near old Badar Hospital in University Town, Peshawar, Pakistan; Chinar Road, University Town, Peshawar, Pakistan [SDGT].

-to-

REVIVAL OF ISLAMIC HERITAGE SOCIETY (a.k.a. AFGHAN SUPPORT COMMITTEE; a.k.a. AHIYAHU TURUS; a.k.a. AHYA UL TURAS; a.k.a. AHYA UTRAS; a.k.a. AL FORQAN CHARITY; a.k.a. AL-FORQAN AL-KHAIRYA; a.k.a. AL-FURQAN AL-KHARIYA; a.k.a. AL-FURQAN CHARITABLE FOUNDATION; a.k.a. AL-FURQAN FOUNDATION WELFARE TRUST; a.k.a. AL-FURQAN KHARIA; a.k.a. AL-FURQAN UL KHAIRA; a.k.a. AL-FURQAN WELFARE FOUNDATION; a.k.a. AL-TURAZ ORGANIZATION; a.k.a. AL-TURAZ TRUST; a.k.a. EAST AND WEST ENTERPRISES; a.k.a. FORKHAN RELIEF ORGANIZATION; a.k.a. HAYAT UR RAS AL-FURQAN; a.k.a. HAYATURAS; a.k.a. HAYATUTRAS; a.k.a. HIYAT ORAZ AL ISLAMIYA; a.k.a. JAMIA IHYA UL TURATH; a.k.a. JAMIAT AL-HAYA AL-SARAT; a.k.a. JAMIAT AYAT-UR-RHAS AL ISLAMIA; a.k.a. JAMIAT IHIA AL-TURATH AL-ISLAMIYA; a.k.a. JAMIAT IHYA UL TURATH AL ISLAMIA; a.k.a. JAMITO AHIA TORAS AL-ISLAMI; a.k.a. LAJNAT UL MASA EIDATUL AFGHANIA; a.k.a. LAJNATUL FURQAN; a.k.a. ORGANIZATION FOR PEACE AND DEVELOPMENT PAKISTAN; a.k.a. RAIES KHILQATUL QURANIA FOUNDATION OF PAKISTAN; a.k.a. REVIVAL OF ISLAMIC SOCIETY HERITAGE ON THE AFRICAN CONTINENT; a.k.a. “AL MOSUSTA FURQAN”; a.k.a. “AL-FORKAN”; a.k.a. “AL-FURKAN”; a.k.a. “AL-MOSASATUL FURQAN”; a.k.a. “ASC”; a.k.a. “HITRAS”; a.k.a. “JAMIAT AL-FURQAN”; a.k.a. “MOASSESA AL-FURQAN”; a.k.a. “MOSASA-TUL-FORQAN”; a.k.a. “RIHS”; a.k.a. “SOCIAL DEVELOPMENT FOUNDATION”), House Number 56, E. Canal Road, University Town, Peshawar, Pakistan; Afghanistan; Near old Badar Hospital in University Town, Peshawar, Pakistan; Chinar Road, University Town, Peshawar, Pakistan; 218 Khyber View Plaza, Jamrud Road, Peshawar, Pakistan; 216 Khyber View Plaza, Jamrud Road, Peshawar, Pakistan [SDGT].

Dated: March 22, 2016.
John E. Smith,
Acting Director, Office of Foreign Assets Control.

[FR Doc. 2016-06804 Filed 3-24-16; 8:45 am]

BILLING CODE 4810-AL-P